DEPARTMENT OF TRANSPORTATION

Federal Aviation Administration

14 CFR Part 39

[Docket No. FAA-2008-1237; Directorate Identifier 2008-NM-125-AD; Amendment 39-15932; AD 2009-12-09]

RIN 2120-AA64

Airworthiness Directives; ATR Model ATR42-200, ATR42-300, ATR42-320, ATR42-500, ATR72-101, ATR72-201, ATR72-102, ATR72-202, ATR72-211, ATR72-212, and ATR72-212A Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

* * * * *

[C]hafed wirings were found in the rear baggage zone, closed [close] to the forward side of the aft pressure bulkhead, due to contact with an understructure securing screw. The concerned wiring harness includes rudder trim, pitch trim and stick pusher control wires. Damages on those wires might lead to the loss of fail safe criteria for those critical functions.

* * * * *

The unsafe condition is reduced controllability of the airplane. We are issuing this AD to require actions to correct the unsafe condition on these products.

DATES: This AD becomes effective July 16, 2009.

The Director of the Federal Register approved the incorporation by reference of certain publications listed in this AD as of July 16, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on November 26, 2008 (73 FR 71961). That NPRM proposed to correct an unsafe condition for the specified products. The MCAI states:

One ATR operator reported some spurious “Pitch disconnect” warning and “AIL and R ELEV” Anti-Ice Horn Fault caution annunciations which precluded the use of the autopilot.

During the investigation, chafed wirings were found in the rear baggage zone, closed [close] to the forward side of the aft pressure bulkhead, due to contact with an understructure securing screw. The concerned wiring harness includes rudder trim, pitch trim and stick pusher control wires. Damages on those wires might lead to the loss of fail safe criteria for those critical functions.

To address the identified unsafe condition, this AD mandates a one-time inspection and a routing modification of the electrical wires in the bulkhead area.

The unsafe condition is reduced controllability of the airplane. The corrective action also includes contacting ATR for repair instructions and doing the repair if any damage (chafing or contact between bundles of cables and the airframe structure) is found during the one-time inspection. You may obtain further information by examining the MCAI in the AD docket.

Explanation of Change to the NPRM

We have revised paragraph (c) of the AD to coincide with the effectivity of the European Aviation Safety Agency (EASA) AD.

Explanation of Revised Service Information

ATR has issued the service bulletins identified in the following table.

Table—Revised Service Information
ATR Service Bulletin— | Revision— | Dated—
ATR42-92-0015, including Accomplishment Report | 01 | February 11, 2009.
ATR42-92-0018, including Accomplishment Report | 01 | September 4, 2008.
ATR42-92-0018, including Accomplishment Report | 02 | February 13, 2009.
ATR72-92-1016, including Accomplishment Report | 01 | February 11, 2009.
ATR72-92-1018, including Accomplishment Report | 01 | September 4, 2008.
ATR72-92-1018, including Accomplishment Report | 02 | February 13, 2009.

These service bulletins differ from the original issues of those service bulletins, all dated February 11, 2008 (which were referenced in the NPRM), by including clarifications and editorial changes that do not affect the technical content. This AD does not require the “Additional Work” described in ATR Service Bulletins ATR42-92-0018 and ATR72-92-1018, both Revision 01, both dated September 4, 2008.

We have changed paragraphs (f)(1), (f)(2), and (f)(3) of this AD to refer to the most recent revisions of the service bulletins identified in the previous table, and added paragraph (f)(4) of this AD to give credit for actions done according to the prior issues identified in the following table.

Table—Acceptable Service Information
ATR Service Bulletin— | Revision— | Dated—
ATR42-92-0015 | Original | February 11, 2008.
ATR42-92-0018 | Original | February 11, 2008.
ATR42-92-0018 | 01 | September 4, 2008.
ATR72-92-1016 | Original | February 11, 2008.
ATR72-92-1018 | Original | February 11, 2008.
ATR72-92-1018 | 01 | September 4, 2008.

Comments

We gave the public the opportunity to participate in developing this AD. We received no comments on the NPRM or on the determination of the cost to the public.

Conclusion

We reviewed the available data and determined that air safety and the public interest require adopting the AD with the changes described previously. We determined these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 48 products of U.S. registry. We also estimate that it will take about 5 work-hours per product to comply with the basic requirements of this AD. The average labor rate is $80 per work-hour. Required parts will cost about $131 per product. Where the service information lists required parts costs that are covered under warranty, we have assumed that there will be no charge for these parts. As we do not control warranty coverage for affected parties, some parties may incur costs higher than estimated here. Based on these figures, we estimate the cost of this AD to the U.S. operators to be $25,488, or $531 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-12-09 ATR-GIE Avions De Transport Régional (Formerly Aerospatiale): Amendment 39-15932. Docket No. FAA-2008-1237; Directorate Identifier 2008-NM-125-AD.

Effective Date

(a) This airworthiness directive (AD) becomes effective July 16, 2009.

Affected ADs

(b) None.

Applicability

(c) This AD applies to the airplanes identified in paragraphs (c)(1), (c)(2), and (c)(3) of this AD, certificated in any category.

(1) ATR Model ATR42-200, ATR42-300, and ATR42-320 airplanes, all serial numbers, except serial numbers 1 through 107 inclusive, 110 through 112 inclusive, 114, and 115, and except airplanes on which ATR Service Bulletin ATR42-92-0018 has been incorporated.

(2) ATR Model ATR42-500 airplanes, all serial numbers, except serial numbers 667 and subsequent, and except airplanes on which ATR Service Bulletin ATR42-92-0018 has been incorporated.

(3) ATR Model ATR72-101, ATR72-201, ATR72-102, ATR72-202, ATR72-211, ATR72-212, and ATR72-212A airplanes, all serial numbers except serial numbers 756 and subsequent, and except airplanes on which ATR Service Bulletin ATR72-92-1018 has been incorporated.

Subject

(d) Air Transport Association (ATA) of America Code 24: Electrical power.

Reason

(e) The mandatory continuing airworthiness information (MCAI) states:

“One ATR operator reported some spurious “Pitch disconnect” warning and “AIL and R ELEV” Anti-Ice Horn Fault caution annunciations which precluded the use of the autopilot.

“During the investigation, chafed wirings were found in the rear baggage zone, closed [close] to the forward side of the aft pressure bulkhead, due to contact with an understructure securing screw. The concerned wiring harness includes rudder trim, pitch trim and stick pusher control wires. Damages on those wires might lead to the loss of fail safe criteria for those critical functions.

“To address the identified unsafe condition, this AD mandates a one-time inspection and a routing modification of the electrical wires in the bulkhead area.”

The unsafe condition is reduced controllability of the airplane. The corrective action also includes contacting ATR for repair instructions and doing the repair if any damage (chafing or contact between bundles of cables and the airframe structure) is found during the one-time inspection.

Actions and Compliance

(f) Unless already done, do the following actions.

(1) Within 550 flight hours after the effective date of this AD, perform a one-time detailed inspection for damage of the electrical routing in the rear baggage zone, in accordance with the Accomplishment Instructions of ATR Service Bulletin ATR42-92-0015 or ATR72-92-1016, both Revision 01, both dated February 11, 2009, as applicable.

(2) If any damage is found during the inspection required by paragraph (f)(1) of this AD, do the actions in paragraphs (f)(2)(i) and (f)(2)(ii) of this AD.

(i) Before further flight, contact ATR for repair instructions, and do the repair.

(ii) Before further flight, modify the electrical routing and protective sleeve in the rear cargo compartment at frame 44 in accordance with the Accomplishment Instructions of ATR Service Bulletin ATR42-92-0018 or ATR72-92-1018, both Revision 02, both dated February 13, 2009, as applicable.

(3) If no damage is found during the inspection required by paragraph (f)(1) of this AD: Within 5,000 flight hours after the effective date of this AD, modify the electrical routing and replace the protective sleeve in the rear cargo compartment at frame 44 in accordance with the Accomplishment Instructions of ATR Service Bulletin ATR42-92-0018 or ATR72-92-1018, both Revision 02, both dated February 13, 2009, as applicable.

(4) Actions done before the effective date of this AD in accordance with the service bulletins listed in Table 1 of this AD are acceptable for compliance with the corresponding requirements of this AD.

Table 1—Acceptable Service Information
ATR Service Bulletin— | Revision— | Dated—
ATR42-92-0015 | Original | February 11, 2008.
ATR42-92-0018 | Original | February 11, 2008.
ATR42-92-0018 | 01 | September 4, 2008.
ATR72-92-1016 | Original | February 11, 2008.
ATR72-92-1018 | Original | February 11, 2008.
ATR72-92-1018 | 01 | September 4, 2008.

Note 1: This AD does not require the “Additional Work” described in ATR Service Bulletins ATR42-92-0018 and ATR72-92-1018, both Revision 01, both dated September 4, 2008.

FAA AD Differences

Note 2: This AD differs from the MCAI and/or service information as follows:

Although the MCAI or service information tells you to submit information to the manufacturer, such submittal is not required by this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI European Aviation Safety Agency (EASA) Airworthiness Directive 2008-0062, dated April 1, 2008, and the ATR service bulletins contained in Table 2 of this AD, for related information.

Table 2—Related Service Information
ATR Service Bulletin— | Revision— | Dated—
ATR42-92-0015, excluding Accomplishment Report | 01 | February 11, 2009.
ATR42-92-0018, excluding Accomplishment Report | 02 | February 13, 2009.
ATR72-92-1016, excluding Accomplishment Report | 01 | February 11, 2009.
ATR72-92-1018, excluding Accomplishment Report | 02 | February 13, 2009.

Material Incorporated by Reference

(i) You must use the service information contained in Table 3 of this AD to do the actions required by this AD, as applicable, unless the AD specifies otherwise.

(1) The Director of the Federal Register approved the incorporation by reference of this service information under 5 U.S.C. 552(a) and 1 CFR part 51.

(2) For service information identified in this AD, contact ATR-GIE Avions de Transport Régional, 1, Allée Pierre Nadot, 31712 Blagnac Cedex, France; telephone +33 (0) 5 62 21 62 21; fax +33 (0) 5 62 21 67 18; e-mail continued.airworthiness@atr.fr; Internet http://www.aerochain.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Table 3—Material Incorporated by Reference
ATR Service Bulletin— | Revision— | Dated—
ATR42-92-0015, excluding Accomplishment Report | 01 | February 11, 2009.
ATR42-92-0018, excluding Accomplishment Report | 02 | February 13, 2009.
ATR72-92-1016, excluding Accomplishment Report | 01 | February 11, 2009.
ATR72-92-1018, excluding Accomplishment Report | 02 | February 13, 2009.

Issued in Renton, Washington, on June 2, 2009.
Stephen P. Boyd,
Acting Manager, Transport Airplane Directorate, Aircraft Certification Service.

[FR Doc. E9-13405 Filed 6-10-09; 8:45 am]

BILLING CODE 4910-13-P